FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 011753-004.

Title: Hoegh Autoliners/EUKOR Space Charter Agreement.

Parties: Hoegh Autoliners AS and EUKOR Car Carriers, Inc.

Filing Party: Wayne R. Rohde, Esq.; Cozen O'Connor; 1627 I Street NW., Suite 1100; Washington, DC 20036.

Synopsis: The amendment expands the geographic scope of the agreement to include the trade from the U.S. West Coast to Japan, China and the Republic of Korea, and updates the addresses of the parties.

Agreement No.: 012206-002.

Title: Grimaldi/“K” Line Space Charter Agreement.

Parties: Grimaldi Deep Sea S.P.A. and Grimaldi Euromed S.p.A (acting as a single party); Kawasaki Kisen Kaisha, Ltd.

Filing Party: Wayne Rohde; Cozen O'Connor; 1627 I Street NW., Suite 1100; Washington, DC 20006.

Synopsis: The amendment adds Grimaldi Euromed S.p.A. as a party to the agreement.

Agreement No.: 012212-002.

Title: NYK/Grimaldi Cooperative Working Agreement.

Parties: Nippon Yusen Kaisha N.Y.K. Line (North America) Inc.; and Grimaldi Deep Sea S.p.A. and Grimaldi Euromed S.p.A. (acting as a single party).

Filing Party: Wayne R. Rohde, Esq.; Cozen O'Conner; 1627 I Street NW., Suite 1100; Washington, DC 20006-4007.

Synopsis: The amendment adds Grimaldi Euromed S.p.A. as a party to the agreement.

Agreement No.: 012291-002.

Title: Maersk Line/MSC WCCA Space Charter Agreement.

Parties: Maersk Line A/S and MSC Mediterranean Shipping Company S.A.

Filing Party: Wayne Rohde, Esq.; Cozen O'Connor; 1627 I Street NW., Suite 1100; Washington, DC 20006.

Synopsis: The Amendment would provide for the chartering of space on an “as needed, as available” basis.

Agreement No.: 012293-004.

Title: Maersk/MSC Vessel Sharing Agreement.

Parties: Maersk Line A/S and MSC Mediterranean Shipping Company S.A.

Filing Party: Wayne Rohde, Esq.; Cozen O'Connor; 1627 I Street NW., Suite 1100; Washington, DC 20006.

Synopsis: The Amendment would add Russia, Saudi Arabia, and Israel to the geographic scope of the Agreement.

Agreement No.: 012346.

Title: Sealand/APL Central America Vessel Sharing Agreement Space Charter Agreement.

Parties: Maersk Line A/S DBA Sealand; APL Co. Pte Ltd.; American President Lines, Ltd..

Filing Party: Wayne R. Rohde, Esq.; Cozen O' Connor; 1627 I Street NW., Suite 1100; Washington, DC 20006-4007.

Synopsis: The agreement is a vessel sharing agreement in the trade between the U.S. East Coast on the one hand, and Panama and Colombia on the other.

Agreement No.: 012347.

Title: NYK/“K” Line Space Charter Agreement.

Parties: Nippon Yusen Kaisha, Ltd. and Kawasaki Kisen Kaisha, Ltd.

Filing Party: John P. Meade, Esq.; General Counsel; K-Line America, Inc.; 6199 Bethlehem Road; Preston, MD 21655.

Synopsis: The agreement authorizes the parties to charter space to each other for new vehicles in the trade between the U.S. and Japan, Korea and China.

Agreement No.: 201228.

Title: Port of Seattle/Port of Tacoma Alliance Agreement.

Parties: Port of Seattle and Port of Tacoma.

Filing Party: Thomas H. Tanaka, Senior Port Counsel; Port of Seattle; 2711 Alaskan Way, Seattle, WA 98121; and Carolyn Lake, Port General Legal Counsel; Port of Tacoma; 501 South G Street, Tacoma, WA 98405.

Synopsis: The Agreement would authorize the parties to establish an alliance and create an entity known as a port development authority to operate the alliance.

Agreement No.: 201229.

Title: Port of Houston Authority and Maersk Agency USA, Inc. as agent for Maersk Line A/S Marine Terminal Services Agreement.

Parties: Port of Houston Authority and Maersk Line A/S.

Filing Party: Linda Henry, Associate General Counsel; Port of Houston Authority; 111 East Loop North, Houston, TX 77029.

Synopsis: The Agreement sets forth certain discounted rates and charges applicable to Maersk Line A/S container vessels calling at Port of Houston Authority's Barbours Cut and Bayport Container Terminals.

By Order of the Federal Maritime Commission.
Dated: June 12, 2015.
Karen V. Gregory,
Secretary.

[FR Doc. 2015-14920 Filed 6-17-15; 8:45 am]

BILLING CODE 6730-01-P